DEPARTMENT OF HEALTH AND HUMAN SERVICES

National Committee on Vital and Health Statistics: Meeting

Pursuant to the Federal Advisory Committee Act, the Department of Health and Human Services announces the following advisory committee meeting.

Name: National Committee on Vital and Health Statistics (NCVHS) Executive Subcommittee.

Time and Date: 8 a.m.-4:30 p.m., July 26, 2002

Place: Hotel Monaco, 225 North Wabash, Chicago, IL 60601.

Status: Open.

Purpose: This meeting of the Executive Subcommittee will be held for Committee work planning purposes. The Subcommittee will plan future Committee meetings and review work plans for 2002 and early 2003. Strategic planning will include organizing and integrating agenda issues across priorities, reviewing the efficiency and effectiveness of the current Committee structure and meeting schedule, and positioning the Committee to address new and emerging topics.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/, where further information will be posted when available.

Dated: July 2, 2002.
James Scanlon,
Director, Division of Data Policy, Office of the Assistant Secretary for Planning and Evaluation.

[FR Doc. 02-17294 Filed 7-9-02; 8:45 am]

BILLING CODE 4151-05-M